DEPARTMENT OF ENERGY

Federal Energy Regulatory Commission

Combined Notice of Filings #1

May 31, 2006.

Take notice that the Commission received the following electric rate filings.

Docket Numbers: ER02-2310-004.

Applicants: Crescent Ridge LLC.

Description: Crescent Ridge LLC submits its triennial market power analysis in compliance with Commission's order issued 8/21/02.

Filed Date: 4/11/2006.

Accession Number: 20060411-5032.

Comment Date: 5 p.m. Eastern Time on Wednesday, June 7, 2006.

Docket Numbers: ER04-1232-003.

Applicants: Southwest Power Pool, Inc.

Description: Southwest Power Pool, Inc submits revised pages to its OATT intended to implement a rate change for Southwestern Public Service Co.

Filed Date: 5/16/2006.

Accession Number: 20060522-0075.

Comment Date: 5 p.m. Eastern Time on Tuesday, June 6, 2006.

Docket Numbers: ER06-451-002; ER06-1047-000.

Applicants: Southwest Power Pool, Inc.

Description: Southwest Power Pool Inc submits revisions to its OATT, revising real-time energy imbalance market proposal in compliance with the Commission's 3/1/06 order.

Filed Date: 5/19/2006.

Accession Number: 20060524-0208.

Comment Date: 5 p.m. Eastern Time on Friday, June 9, 2006.

Docket Numbers: ER06-1019-000.

Applicants: American Transmission Company LLC.

Description: American Transmission Company LLC submits an executed Distribution—Transmission Interconnection Agreement w/Cuba City Light & Water.

Filed Date: 5/19/2006.

Accession Number: 20060530-0160.

Comment Date: 5 p.m. Eastern Time on Friday, June 9, 2006.

Docket Numbers: ER06-1027-000.

Applicants: Wisconsin Public Service Corporation.

Description: Wisconsin Public Service Corp submits an amendment to its 6/7/05 Wind-Up Plan filing.

Filed Date: 5/19/2006.

Accession Number: 20060530-0274.

Comment Date: 5 p.m. Eastern Time on Friday, June 9, 2006.

Docket Numbers: ER06-1032-000.

Applicants: Westar Energy, Inc.

Description: Westar Energy, Inc on behalf of Kansas Gas & Electric Co submits a notice of cancellation of its wholesale electric service agreement, Rate Schedule No. 152, with Missouri Public Service Co.

Filed Date: 5/25/2006.

Accession Number: 20060530-0037.

Comment Date: 5 p.m. Eastern Time on Thursday, June 15, 2006.

Docket Numbers: ER06-1034-000.

Applicants: ISO New England Inc.; ISO New England Power Pool Participants Committee.

Description: ISO New England Inc & New England Power Pool Participants Committee submits a limited package of clarifying & technical revisions to the market rules associated with Phase II of the Ancillary Services Market Project filed 2/6/06.

Filed Date: 5/25/2006.

Accession Number: 20060530-0036.

Comment Date: 5 p.m. Eastern Time on Thursday, June 15, 2006.

Docket Numbers: ER06-1035-000.

Applicants: American Electric Power Service Corporation.

Description: American Electric Power Service Corp submits a power purchase and sale agreement, Rate Schedule No. 229, between AEP Texas North Co and CSW Power Marketing, Inc.

Filed Date: 5/25/2006.

Accession Number: 20060530-0035.

Comment Date: 5 p.m. Eastern Time on Thursday, June 15, 2006.

Docket Numbers: ER06-1043-000.

Applicants: Midwest Independent Transmission System Operator, Inc.

Description: Midwest Independent Transmission System Operator, Inc submits an Amended and Restated Standard Large Generator Interconnection Agreement with High Prairie Wind Farm I, LLC.

Filed Date: 5/24/2006.

Accession Number: 20060530-0088.

Comment Date: 5 p.m. Eastern Time on Wednesday, June 14, 2006.

Docket Numbers: ER06-1044-000.

Applicants: Florida Power Corporation.

Description: Florida Power Corp dba Progress Energy Florida Inc submits a Notice of Cancellation of Rate Schedule 110, Contract for Purchase of Economy Energy with Duke Power Co.

Filed Date: 5/24/2006.

Accession Number: 20060530-0087.

Comment Date: 5 p.m. Eastern Time on Wednesday, June 14, 2006.

Docket Numbers: ER06-1045-000.

Applicants: California Independent System Operator Corporation.

Description: California Independent System Operator Corp submits Amendment 1 to its Participating Load Agreement with the California Department of Water Resources.

Filed Date: 5/24/2006.

Accession Number: 20060530-0086.

Comment Date: 5 p.m. Eastern Time on Wednesday, June 14, 2006.

Docket Numbers: ER06-1046-000.

Applicants: Western Kentucky Energy Corporation; LG&E Energy Marketing, Inc.; Louisville Gas and Electric Company; Kentucky Utilities Company.

Description: LG&E Energy Marketing Inc, Louisville Gas and Electric Co, Kentucky Utilities Company and Western Kentucky Energy Corp submits amendments to their market-based rate tariffs.

Filed Date: 5/24/2006.

Accession Number: 20060530-0085.

Comment Date: 5 p.m. Eastern Time on Wednesday, June 14, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-8829 Filed 6-6-06; 8:45 am]

BILLING CODE 6717-01-P \